DEPARTMENT OF COMMERCE

National Telecommunications and Information Administration

Notice: Request for Nominations, Spectrum Management Advisory Committee

AGENCY: National Telecommunications and Information Administration.

ACTION: Reopening of nomination period.

SUMMARY: On October 28, 2005, the Department of Commerce's National Telecommunications and Information Administration published a notice in the Federal Register (70 FR 62,099) announcing the formation of the Spectrum Management Advisory Committee (Committee) and soliciting nominations for persons to serve on the Committee. The October 28, 2005 notice provided that all nominations of potential members must be received by the Department no later than November 28, 2005. The October 28, 2005 notice also provided additional information concerning the Committee and membership on the Committee. This notice reopens the nomination period in order to provide the public with an additional opportunity to submit nominations. The evaluation criteria for selecting members contained in the October 28, 2005 notice shall continue to apply.

DATES: The Department will accept nominations postmarked or electronically transmitted on or before January 31, 2006. Please note that nominations previously submitted at any time prior to the date of this notice (including those submitted after the November 28, 2005 deadline) will be considered and should not be resubmitted.

ADDRESSES: Persons wishing to submit nominations should send the nominee's resume to the attention of Joe Gattuso, Office of the Assistant Secretary, National Telecommunications and Information Administration, 1401 Constitution Avenue, NW., Room 4898, Washington DC 20230; by facsimile transmission to (202) 501-0536; or by electronic mail to spectrumadvisory@ntia.doc.gov.

FOR FURTHER INFORMATION CONTACT: Joe Gattuso at (202) 482-0977 or jgattuso@ntia.doc.gov.

SUPPLEMENTARY INFORMATION: On November 29, 2004, the President issued a Memorandum for the Heads of Executive Departments and Agencies on the subject of “Spectrum Management for the 21st Century.” ¹ Among other things, the Executive Memorandum directed the heads of the executive departments and agencies to implement the recommendations contained in two Commerce Department reports to the President identifying improvements in U.S. spectrum management.² The first recommendation in Report 2 called for the establishment of a federal advisory committee within the National Telecommunications and Information Administration (NTIA).³

¹ President's Memorandum on Improving Spectrum Management for the 21st Century, 49 Weekly Comp. Pres. Doc. 2875 (Nov. 29, 2004)(Executive Memorandum).

² See Department of Commerce, Spectrum Policy for the 21st Century-The President's Spectrum Policy Initiative: Report 1, Recommendations of the Federal Government Spectrum Task Force (June 2004); Department of Commerce, Spectrum Policy for the 21st Century-The President's Spectrum Policy Initiative: Report 2, Recommendations from State and Local Governments and Private Sector Responders (June 2004)(Report 2), available at http://www.ntia.doc.gov/reports/specpolini/presspecpolini_report2_06242004.pdf.

³ “The National Telecommunications and Information Administration (NTIA) should establish the Department of Commerce Spectrum Management Advisory Committee, consistent with the Federal Advisory Committee Act [5 U.S.C. App.2] and the NTIA Organization Act [47 U.S.C. §904(b)].” Report 2 at ii, 14-15.

Pursuant to the Executive Memorandum, the Secretary of Commerce established the Spectrum Management Advisory Committee under the Federal Advisory Committee Act (FACA), 5 U.S.C. App. 2, consistent with the National Telecommunications and Information Administration Act,47 U.S.C. 904(b). The Committee will report to the Assistant Secretary for Communications and Information. It will advise the Assistant Secretary on a broad range of issues regarding spectrum policy and on needed reforms to domestic spectrum policies and management to enable timely implementation of evolving spectrum-dependent technologies and services to benefit the public. The Committee will function solely as an advisory body in compliance with the FACA. The Committee's Charter appears on NTIA's Website at http://www.ntia.doc.gov.

The criteria for selecting members contained in the October 28, 2005 notice shall continue to apply. The Secretary of Commerce intends to appoint representatives from a balanced cross-section of stakeholder interests in spectrum management and policy reform, including non-federal government users, state, regional and local sectors, technology developers, and manufacturers, academia, consumer groups, and service providers with customers in both domestic and international markets. The Department of Commerce seeks high level individuals with broad expertise in and capable of representing those sectors and interests on policy issues relevant to the Committee. Members will be appointed for a two-year term and may be reappointed for additional terms. Members of the Committee will be appointed as Special Government Employees and will serve without compensation. Nominations should include a resume or curriculum vita, and should also include a statement summarizing the qualifications of the nominee and identifying the sector or interest (if individual) for which the nominee has expertise.

Dated: January 18, 2006.
Kathy D. Smith,
Chief Counsel, National Telecommunications and Information Administration.

[FR Doc. E6-697 Filed 1-20-06; 8:45 am]

BILLING CODE 3510-60-S